DEPARTMENT OF TRANSPORTATION

Federal Aviation Administration

14 CFR Part 39

[Docket No. FAA-2009-0515; Directorate Identifier 2008-NM-071-AD; Amendment 39-16007; AD 2009-18-11]

RIN 2120-AA64

Airworthiness Directives; Fokker Model F.28 Mark 0070 and 0100 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Following a red illuminated “DOOR NOT LOCKED” status light indication on the door lock indication panel after lift off, the cabin crew operated the door lock handle. This resulted in inadvertent opening of the downward opening passenger door in flight. * * *

After inspection, it was found that the false red light might be the result of an incorrect clearance between lever Part Number (P/N) A26997-003 and the Up-Limit Switch. If the Up-Limit Switch has an incorrect clearance, the combination with cabin differential pressure build-up after lift-off might result in a false steady illuminating red “DOOR NOT LOCKED” indication on the Door Indication Panel. * * *

* * * * *

The unsafe condition is inadvertent opening of the door lock handle in flight, which could result in rapid decompression of the airplane or ejection of a passenger or crewmember through the door. We are issuing this AD to require actions to correct the unsafe condition on these products.

DATES: This AD becomes effective October 14, 2009.

The Director of the Federal Register approved the incorporation by reference of certain publications listed in this AD as of October 14, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on June 9, 2009 (74 FR 27260). That NPRM proposed to correct an unsafe condition for the specified products. The MCAI states:

Following a red illuminated “DOOR NOT LOCKED” status light indication on the door lock indication panel after lift off, the cabin crew operated the door lock handle. This resulted in inadvertent opening of the downward opening passenger door in flight. It appeared that the cabin crew was unaware of the content of Fokker 70/100 Service Letter (SL) 272. This SL informs not to operate the door lock handle after the aircraft has started to move or before it has come to a complete standstill.

After inspection, it was found that the false red light might be the result of an incorrect clearance between lever Part Number (P/N) A26997-003 and the Up-Limit Switch. If the Up-Limit Switch has an incorrect clearance, the combination with cabin differential pressure build-up after lift-off might result in a false steady illuminating red “DOOR NOT LOCKED” indication on the Door Indication Panel. The original Fokker Service Bulletin SBF100-52-044 and the associated Aircraft Maintenance Manual (AMM) task mentioned a clearance of 1,3 mm ± 0,3 mm. Later, based on a trial, an improved clearance of 0,3 mm ± 0,2 mm was introduced. Both documents have been revised for that reason. Later production serial number aircraft with downward opening passenger doors had the correct clearance introduced before delivery, but no action was taken to inspect and adjust the clearance on previously delivered or modified (per SBF100-52-044) serial numbers.

Since an unsafe condition has been identified that is likely to exist or develop on other aircraft of the same type design, this [EASA] Airworthiness Directive (AD) requires two actions:

—The installation of a warning placard near the status lights of the door lock indication panel, instructing the cabin crew not to operate the door handle during flight and to inform the flight crew of the “DOOR NOT LOCKED” indication; and

—A one-time inspection of the clearance between lever P/N A26997-003 and the Up-Limit Switch. If this clearance deviates from the limits given in AMM task 52-71-01-400-814-A, which is 0,3 mm ± 0,2 mm (0.0118 inch ± 0.0079 inch), corrective actions are required.

The unsafe condition is inadvertent opening of the door lock handle in flight, which could result in rapid decompression of the airplane or ejection of a passenger or crewmember through the door. The corrective action for improper clearance is adjusting the clearance between the lever and the up-limit switch. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 10 products of U.S. registry. We also estimate that it will take about 4 work-hours per product to comply with the basic requirements of this AD. The average labor rate is $80 per work-hour. Required parts will cost about $20 per product. Where the service information lists required parts costs that are covered under warranty, we have assumed that there will be no charge for these parts. As we do not control warranty coverage for affected parties, some parties may incur costs higher than estimated here. Based on these figures, we estimate the cost of this AD to the U.S. operators to be $3,400, or $340 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-18-11 Fokker Services B.V.: Amendment 39-16007. Docket No. FAA-2009-0515; Directorate Identifier 2008-NM-071-AD.

Effective Date

(a) This airworthiness directive (AD) becomes effective October 14, 2009.

Affected ADs

(b) None.

Applicability

(c) This AD applies to Fokker Model F.28 Mark 0070 and 0100 series airplanes, certificated in any category, equipped with a downward-opening “airstair” type passenger door.

Subject

(d) Air Transport Association (ATA) of America Codes 11 and 52: Placards and Markings, and Doors, respectively.

Reason

(e) The mandatory continuing airworthiness information (MCAI) states:

“Following a red illuminated “DOOR NOT LOCKED” status light indication on the door lock indication panel after lift off, the cabin crew operated the door lock handle. This resulted in inadvertent opening of the downward opening passenger door in flight. It appeared that the cabin crew was unaware of the content of Fokker 70/100 Service Letter (SL) 272. This SL informs not to operate the door lock handle after the aircraft has started to move or before it has come to a complete standstill.

“After inspection, it was found that the false red light might be the result of an incorrect clearance between lever Part Number (P/N) A26997-003 and the Up-Limit Switch. If the Up-Limit Switch has an incorrect clearance, the combination with cabin differential pressure build-up after lift-off might result in a false steady illuminating red “DOOR NOT LOCKED” indication on the Door Indication Panel. The original Fokker Service Bulletin SBF100-52-044 and the associated Aircraft Maintenance Manual (AMM) task mentioned a clearance of 1,3 mm ± 0,3 mm. Later, based on a trial, an improved clearance of 0,3 mm ± 0,2 mm was introduced. Both documents have been revised for that reason. Later production serial number aircraft with downward opening passenger doors had the correct clearance introduced before delivery, but no action was taken to inspect and adjust the clearance on previously delivered or modified (per SBF100-52-044) serial numbers.

“Since an unsafe condition has been identified that is likely to exist or develop on other aircraft of the same type design, this [EASA] Airworthiness Directive (AD) requires two actions:

—The installation of a warning placard near the status lights of the door lock indication panel, instructing the cabin crew not to operate the door handle during flight and to inform the flight crew of the “DOOR NOT LOCKED” indication; and

—A one-time inspection of the clearance between lever P/N A26997-003 and the Up-Limit Switch. If this clearance deviates from the limits given in AMM task 52-71-01-400-814-A, which is 0,3 mm ± 0,2 mm (0.0118 inch ± 0.0079 inch), corrective actions are required.”

The unsafe condition is inadvertent opening of the door lock handle in flight, which could result in rapid decompression of the airplane or ejection of a passenger or crewmember through the door. The corrective action for improper clearance is adjusting the clearance between the lever and the up-limit switch.

Actions and Compliance

(f) Unless already done, do the following actions:

(1) Within 500 flight cycles or 4 months after the effective date of this AD, whichever occurs first, install a new warning placard near the status lights of the panel of the door lock indication, in accordance with the Accomplishment Instructions of Fokker Service Bulletin SBF100-11-025, Revision 1, dated December 13, 2007.

(2) Within 4,000 flight cycles after the effective date of this AD, do a one-time inspection of the clearance between lever P/N A26997-003 and the up-limit switch, in accordance with the Accomplishment Instructions of Fokker Service Bulletin SBF100-52-086, dated November 1, 2007.

(3) If any clearance is found outside the range defined in Fokker Service Bulletin SBF100-52-086, dated November 1, 2007, during the inspection required by paragraph (f)(2) of this AD, before further flight, correct the clearance in accordance with the Accomplishment Instructions of Fokker Service Bulletin SBF100-52-086, dated November 1, 2007.

(4) If done before the effective date of this AD, installing the warning placard near the status lights of the panel of the door lock indication, in accordance with Fokker Service Bulletin SBF100-11-025, dated November 1, 2007, is acceptable for compliance with the requirements of paragraph (f)(1) of this AD.

(5) Modifying the airplane in accordance with Fokker Service Bulletin SBF100-52-044, Revision 1, dated November 1, 2007, terminates the requirements of paragraph (f)(2) of this AD.

FAA AD Differences

Note 1: This AD differs from the MCAI and/or service information as follows:

Note 1 of the “Compliance” section of European Aviation Safety Agency (EASA) Airworthiness Directive 2008-0020, dated January 28, 2008, states that any airplane that has not yet been modified in accordance with Fokker Service Bulletin SBF100-52-069, dated December 3, 2001, must be modified prior to or concurrently with paragraph (f)(1) of this AD. However, all U.S. airplanes have met this requirement with the issuance of AD 2006-03-07, amendment 39-14471; therefore, modification in accordance with Fokker Service Bulletin SBF100-52-069, dated December 3, 2001, is not applicable.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2008-0020, dated January 28, 2008; Fokker Service Bulletin SBF100-11-025, Revision 1, dated December 13, 2007; and Fokker Service Bulletin SBF100-52-086, dated November 1, 2007; for related information.

Material Incorporated by Reference

(i) You must use Fokker Service Bulletin SBF100-11-025, Revision 1, dated December 13, 2007; and Fokker Service Bulletin SBF100-52-086, dated November 1, 2007; as applicable; to do the actions required by this AD, unless the AD specifies otherwise. If you accomplish the optional modification specified in paragraph (f)(5) of this AD, you must use Fokker Service Bulletin SBF100-52-044, Revision 1, dated November 1, 2007, to perform that modification, unless the AD specifies otherwise.

(1) The Director of the Federal Register approved the incorporation by reference of this service information under 5 U.S.C. 552(a) and 1 CFR part 51.

(2) For service information identified in this AD, contact Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on August 18, 2009.
Stephen P. Boyd,
Acting Manager, Transport Airplane Directorate, Aircraft Certification Service.

[FR Doc. E9-20834 Filed 9-8-09; 8:45 am]

BILLING CODE 4910-13-P